DEPARTMENT OF TRANSPORTATION

Federal Aviation Administration

Public Notice for a Change in Use of Aeronautical Property at Bradford Regional Airport (BFD), Bradford, PA

AGENCY: Federal Aviation Administration (FAA), DOT.

ACTION: Request for public comment.

SUMMARY: The Federal Aviation Administration is requesting public comment on the Bradford Regional Airport Authority's request to change 35.46 acres of airport property from aeronautical use to non-aeronautical use.

The parcel is located at Bradford Regional Airport (BFD) in Lafayette Township, McKean County, PA. The property is currently depicted on the Airport Layout Plan of record as airport property and consists mostly of wooded undeveloped land bound by State Highway Rt. 59 and the Airport Access Road. More specifically, the 35.46 Acre tract is positioned east of the airport access road and north of State Highway Rt. 59 at their intersection. The airport is proposing redesignating this area as available for non-aeronautical use. The requested change is for the anticipated purpose of permitting the Airport Owner to lease commercial space to tenants for commercial and light industrial development that is compatible with airport operations.

This action will allow the redesignation of the 35.46 area as land available for non-aeronautical use on the Airport Layout Plan (ALP). Documents reflecting the Sponsor's request are available, by appointment only, for inspection at the Bradford Airport Manager's office and the FAA Harrisburg Airport District Office.

DATES: Comments must be received on or before May 9, 2011.

ADDRESSES: Documents are available for review at the Airport Manager's office: Thomas C. Frungillo, Airport Director, Bradford Regional Airport, 212 Airport Drive, Lewis Run, PA 16738. 814-368-5928 and at the FAA Harrisburg Airports District Office: Oscar D. Sanchez, Program Manager, Harrisburg Airports District Office, 3905 Hartzdale Dr., Suite 508, Camp Hill, PA 17011. (717) 730-2830.

FOR FURTHER INFORMATION CONTACT: Oscar D. Sanchez, Program Manager, Harrisburg Airports District Office (location listed above).

SUPPLEMENTARY INFORMATION: The FAA invites public comment on the request to re-designate current aeronautical property at the Bradford Regional Airport as available for non-aeronautical use under the provisions of Section 47125(a) of Title 49 U.S.C.

The following is a brief overview of the request:

The Bradford Regional Airport (BFD) has requested the designation of a 35.46 acre parcel located on airport property, in proximity to State Rt. 59 and east of the Airport Access Road, as available for non-aeronautical development. This land was acquired by The City of Bradford and McKean County in October of 1941, as part of a 600 acre plot composed of properties acquired from Bingham Petroleum Co., Anna Gates, Mt. Jewett Catholic Church, South Penn Oil Co., Sylvania Corporation, Erie Railroad, F.W. Paul Estate and Byron W. Pierce. There are no known adverse impacts to the operation of the airport and the 35.46 acre parcel of land is not needed for future aeronautical development as indicated on the approved Bradford Airport Layout Plan (ALP). There is to be no sale or transfer of property rights in connection with this Airport Layout Plan change. Any proceeds from the lease of the future tenant space or other future non-aeronautical development, are to remain on the airport for capital development and to cover the operating costs of the Airport.

Any person may inspect the request by appointment at the FAA office address listed above.

Interested persons are invited to comment on the proposed change in use of the property. All comments will be considered by the FAA to the extent practicable.

Issued in Camp Hill, Pennsylvania, April 1, 2011.
Lori K. Pagnanelli,
Manager, Harrisburg Airports District Office.

[FR Doc. 2011-8267 Filed 4-6-11; 8:45 am]

BILLING CODE P